DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 16, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: University of Texas at Austin, Austin, TX, PRT-140459

The applicant requests a permit to re-export biological samples collected in the wild in Mexico from aquatic box turtles (Terrapene coahuila) to the Universidad Nacional Autonoma de Mexico, Mexico, for scientific research.

Applicant: Wildlife Conservation Society, Bronx, NY, PRT-147321

The applicant requests a permit to import one male and one female captive-born lesser slow loris (Nycticebus pygmaeus) from the Calgary Zoo, Alberta, Canada for the purpose of enhancement of the species through captive propagation and conservation education.

Applicant: National Zoological Park, Washington, DC, PRT-134405

The applicant requests a permit to import biological samples from leatherback sea turtles (Dermochelys coriacea) collected in the wild in Gabon, for scientific research. This notification covers activities to be conducted by the applicant over a five-year period.

Applicant: Richard J. Lullo, Houston, TX, PRT-147381

The applicant requests a permit to import the sport-hunted trophy of one male bontebok (Damaliscus pygargus pygargus) culled from a captive herd maintained under the management program of the Republic of South Africa, for the purpose of enhancement of the survival of the species.

Applicant: Daniel H. Braman, III, Refugio, TX, PRT-147382

The applicant requests a permit to import the sport-hunted trophy of one male bontebok (Damaliscus pygargus pygargus) culled from a captive herd maintained under the management program of the Republic of South Africa, for the purpose of enhancement of the survival of the species.

Applicant: Shelby C. Fischer, Victoria, TX, PRT-147383

The applicant requests a permit to import the sport-hunted trophy of one male bontebok (Damaliscus pygargus pygargus) culled from a captive herd maintained under the management program of the Republic of South Africa, for the purpose of enhancement of the survival of the species.

Applicant: Stella W. Braman, Refugio, TX, PRT-147384

The applicant requests a permit to import the sport-hunted trophy of one male bontebok (Damaliscus pygargus pygargus) culled from a captive herd maintained under the management program of the Republic of South Africa, for the purpose of enhancement of the survival of the species.

Applicant: Jerry A. Jaeger, Plant City, FL, PRT-146588

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: James R. Gabrick, Fountain City, WI, PRT-143422

The applicant requests a permit to import a polar bear (Ursus maritimus) sport hunted from the Western Hudson Bay polar bear population in Canada for personal, noncommercial use.

Applicant: Dennis C. Campbell, Dora, AL, PRT-145886

The applicant requests a permit to import a polar bear (Ursus maritimus) sport hunted from the Western Hudson Bay polar bear population in Canada for personal, noncommercial use.

Applicant: Manuel F. Camacho, Jr., Miami, FL, PRT-147469

The applicant requests a permit to import a polar bear (Ursus maritimus) sport hunted from the Lancaster Sound polar bear population in Canada for personal, noncommercial use.

Applicant: Dennis R. Kallash, Troy, MO, PRT-147415

The applicant requests a permit to import a polar bear (Ursus maritimus) sport hunted from the Northern Beaufort Sea polar bear population in Canada for personal, noncommercial use.

Dated: February 23, 2007.
Michael S. Moore,
Senior Permit Biologist, Branch of Permits, Division of Management Authority.

[FR Doc. E7-4763 Filed 3-14-07; 8:45 am]

BILLING CODE 4310-55-P